ENVIRONMENTAL PROTECTION AGENCY

40 CFR Part 52

[EPA-R10-OAR-2012-0942; FRL-9908-23-Region 10]

Approval and Promulgation of Implementation Plans; State of Alaska; Revised Format of 40 CFR Part 52 for Materials Incorporated by Reference

AGENCY: Environmental Protection Agency (EPA).

ACTION: Final rule; administrative change.

SUMMARY: The Environmental Protection Agency (EPA) is revising the format for materials submitted by the State of Alaska that are incorporated by reference (IBR) into the Alaska State Implementation Plan (SIP). The regulations affected by this format change have all been previously submitted by Alaska and approved by the EPA. This format revision will primarily affect the “Identification of plan” section, as well as the format of the SIP materials that will be available for public inspection at the National Archives and Records Administration (NARA), the Air and Radiation Docket and Information Center located at the EPA Headquarters in Washington, DC, and the EPA Regional Office. The EPA is also adding a table in the “Identification of plan” section which summarizes the approval actions that the EPA has taken on the non-regulatory and quasi-regulatory portions of the Alaska SIP.

DATES: This action is effective April 10, 2014.

ADDRESSES: SIP materials which are incorporated by reference into 40 CFR part 52 are available for inspection at the following locations:

• US Environmental Protection Agency, Region 10, Office of Air, Waste, and Toxics (OAWT-107), 1200 Sixth Avenue, Seattle, Washington 98101;

• Air and Radiation Docket and Information Center, EPA Headquarters Library, Infoterra Room (Room Number 3334), EPA West Building, 1301 Constitution Ave. NW., Washington, DC 20460; and

• National Archives and Records Administration (NARA).

If you wish to obtain materials from a docket in the EPA Headquarters Library, please call the Office of Air and Radiation (OAR) Docket/Telephone number: 202-566-1742. For information on the availability of this material at NARA, call 202-741-6030, or go to: http://www.archives.gov/federal-register/cfr/ibr-locations.html.

FOR FURTHER INFORMATION CONTACT: Kristin Hall, EPA Region 10, (206) 553-6357, hall.kristin@epa.gov.

SUPPLEMENTARY INFORMATION: Throughout this document, wherever “we,” “us” or “our” is used, it is intended to refer to the EPA. Information is organized as follows:

Table of Contents

I. Background

A. What a SIP Is

B. How the EPA Enforces SIPs

C. How the State and the EPA Update the SIP

D. How the EPA Compiles the SIPs

E. How the EPA Organizes the SIP Compilation

F. Where You Can Find a Copy of the SIP Compilation

G. The Format of the New Identification of Plan Section

H. When a SIP Revision Becomes Federally Enforceable

I. The Historical Record of SIP Revision Approvals

II. What the EPA Is Doing in This Action

III. Statutory and Executive Order Review

I. Background

A. What a SIP Is

Each state has a SIP containing the control measures and strategies used to attain and maintain the national ambient air quality standards (NAAQS). The SIP is extensive, containing such elements as air pollution control regulations, emission inventories, monitoring network, attainment demonstrations, and enforcement mechanisms.

B. How the EPA Enforces SIPs

Each state must formally adopt the control measures and strategies in the SIP after the public has had an opportunity to comment on them. They are then submitted to the EPA as SIP revisions upon which the EPA must formally act. Once these control measures and strategies are approved by the EPA, after notice and comment, they are incorporated into the Federally-approved SIP and are identified in part 52 (Approval and Promulgation of Implementation Plans), title 40 of the Code of Federal Regulations (40 CFR part 52). The actual state regulations approved by the EPA are not reproduced in their entirety in 40 CFR part 52, but are “incorporated by reference” (IBR'd) which means that the EPA has approved a given state regulation with a specific effective date. This format allows both the EPA and the public to know which measures are contained in a given SIP and ensures that the state is enforcing the regulations. It also allows the EPA and the public to take enforcement action, should a state not enforce its SIP-approved regulations.

C. How the State and the EPA Update the SIP

The SIP is a living document which the state can revise as necessary to address the unique air pollution problems in the state. Therefore, the EPA must, from time to time, take action on SIP revisions containing new and/or revised regulations in order to make them part of the SIP. On May 22, 1997 (62 FR 27968), the EPA revised the procedures for IBR'ing Federally-approved SIPs, as a result of consultations between the EPA and the Office of the Federal Register (OFR).

The EPA began the process of developing: (1) A revised SIP document for each state that would be IBR'd under the provisions of title 1 CFR part 51; (2) a revised mechanism for announcing the EPA approval of revisions to an applicable SIP and updating both the IBR document and the CFR; and (3) a revised format of the “Identification of Plan” sections for each applicable subpart to reflect these revised IBR procedures. The description of the revised SIP document, IBR procedures, and “Identification of Plan” format are discussed in further detail in the May 22, 1997, Federal Register document.

D. How the EPA Compiles the SIPs

The Federally-approved regulations, source-specific permits, and nonregulatory provisions (entirely or portions of) submitted by each state agency have been compiled by the EPA into a “SIP compilation.” The SIP compilation contains the updated regulations, source-specific permits, and nonregulatory provisions approved by the EPA through previous rulemaking actions in the Federal Register.

E. How the EPA Organizes the SIP Compilation

Each compilation contains three parts. Part one contains the regulations, part two contains the source-specific requirements that have been approved as part of the SIP, and part three contains nonregulatory provisions that have been EPA-approved. Each part consists of a table of identifying information for each SIP-approved regulation, each SIP-approved source-specific permit, and each nonregulatory SIP provision. In this action, the EPA is publishing the tables summarizing the applicable SIP requirements for Alaska. The EPA Regional Offices have the primary responsibility for updating the compilations and ensuring their accuracy.

F. Where You Can Find a Copy of the SIP Compilation

The EPA Region 10 developed and will maintain the compilation for Alaska. A copy of the full text of Alaska's regulatory and source-specific SIP compilation will also be maintained at NARA and the EPA's Air Docket and Information Center.

G. The Format of the New Identification of Plan Section

In order to better serve the public, the EPA revised the organization of the “Identification of Plan” section and included additional information to clarify the enforceable elements of the SIP. The revised Identification of Plan section contains five subsections:

1. Purpose and scope.

2. Incorporation by reference.

3. EPA-approved regulations.

4. EPA-approved source-specific requirements.

5. EPA-approved nonregulatory and quasi-regulatory provisions.

H. When a SIP Revision Becomes Federally Enforceable

All revisions to the applicable SIP become Federally enforceable as of the effective date of the revisions to paragraphs (c), (d), or (e) of the applicable Identification of Plan section found in each subpart of 40 CFR part 52.

I. The Historical Record of SIP Revision Approvals

To facilitate enforcement of previously approved SIP provisions and provide a smooth transition to the new SIP processing system, the EPA retains the original Identification of Plan section, previously appearing in the CFR as the first or second section of part 52 for each state subpart. After an initial two-year period, the EPA will review its experience with the new system and enforceability of previously approved SIP measures and will decide whether or not to retain the Identification of Plan appendices for some further period. Although the EPA is retaining the original Identification of Plan section, other sections of part 52 are duplicative of the new Identification of Plan section. The EPA is therefore removing sections 52.97 “Interstate Transport for the 1997 8-hour ozone and PM2.5 NAAQS” and 52.98 “Section 110(a)(2) infrastructure requirements” as part of the general “housekeeping” discussed below.

II. What the EPA Is Doing in This Action

This action constitutes a “housekeeping” exercise to ensure that all revisions to the state programs that have occurred are accurately reflected in 40 CFR part 52. State SIP revisions are controlled by the EPA regulations at 40 CFR part 51. When the EPA receives a formal SIP revision request, the EPA must publish the proposed revision in the Federal Register and provide for public comment before approval.

The EPA has determined that this action falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This action simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, the EPA has taken the necessary steps to eliminate drafting errors and ambiguity, minimize potential litigation, and provide a clear legal standard for affected conduct, as required by section 3 of Executive Order 12988 (61 FR 4729, February 7, 1996). The EPA has complied with Executive Order 12630 (63 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). The EPA's compliance with these statutes and Executive Orders for the underlying rules is discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in Federal and approved state programs. 5 U.S.C. 802(2). As stated previously, the EPA has made such a good cause finding, including the reasons therefore, and established an effective of April 10, 2014. The EPA will submit a report containing this rule and other required information to the U.S. Senate, the U.S. House of Representatives, and the Comptroller General of the United States prior to publication of the rule in the Federal Register. The changes in format to the “Identification of plan” section for Alaska are not a `major rule' as defined by 5 U.S.C. 804(2).

C. Petitions for Judicial Review

The EPA has also determined that the provisions of section 307(b)(1) of the Clean Air Act pertaining to petitions for judicial review are not applicable to this action. Prior EPA rulemaking actions for each individual component of the Alaska SIP compilations had previously afforded interested parties the opportunity to file a petition for judicial review in the United States Court of Appeals for the appropriate circuit within 60 days of such rulemaking action. Thus, the EPA sees no need in this action to reopen the 60-day period for filing such petitions for judicial review for these “Identification of plan” reorganization actions for Alaska.

List of Subjects in 40 CFR Part 52

Environmental protection, Air pollution control, Carbon monoxide, Incorporation by reference, Intergovernmental relations, Nitrogen dioxide, Ozone, Particulate matter, Reporting and recordkeeping requirements, Sulfur dioxide, Volatile organic compounds.

Dated: March 10, 2014.
Dennis J. McLerran,
Regional Administrator, Region 10.

Part 52 of chapter I, title 40 of the Code of Federal Regulations, is amended as follows:

PART 52—APPROVAL AND PROMULGATION OF IMPLEMENTION PLANS

1. The authority citation for part 52 continues to read as follows:

Authority: 42 U.S.C. 7401 et seq.

Subpart C—Alaska

§ 52.70 [Redesignated as § 52.74]

2. Section 52.70 is redesignated as § 52.74 and the section heading and paragraph (a) are revised to read as follows:

§ 52.74 Original identification of plan section.

(a) This section identified the original “Air Quality Implementation Plan for the State of Alaska” and all revisions submitted by Alaska that were Federally-approved prior to March 4, 2014.

* * * * *

3. New § 52.70 is added to read as follows:

§ 52.70 Identification of plan.

(a) Purpose and scope. This section sets forth the applicable State implementation plan for the State of Alaska under section 110 of the Clean Air Act, 42 U.S.C. 7401-7671q and 40 CFR part 51 to meet national ambient air quality standards.

(b) Incorporation by reference. (1) Material listed in paragraphs (c) and (d) of this section with an EPA approval date prior to March 4, 2014, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after March 4, 2014, will be incorporated by reference in the next update to the SIP compilation.

(2) The EPA Region 10 certifies that the rules/regulations provided by the EPA in the SIP compilation at the addresses in paragraph (b)(3) of this section are an exact duplicate of the officially promulgated State rules/regulations which have been approved as part of the State Implementation Plan as of March 4, 2014.

(3) Copies of the materials incorporated by reference may be inspected at the EPA Region 10 Office at 1200 Sixth Avenue, Seattle WA, 98101; the EPA, Air and Radiation Docket and Information Center, EPA Headquarters Library, Infoterra Room (Room Number 3334), EPA West Building, 1301 Constitution Ave. NW., Washington, DC; or the National Archives and Records Administration (NARA). For information on the availability of this material at NARA, call (202) 741-6030, or go to: http://www.archives.gov/federal-register/cfr/ibr-locations.html.

(c) EPA approved regulations.

EPA-Approved Alaska Regulations and Statutes
State citation | Title/subject | State effective date | EPA approval date | Explanations
Alaska Administrative Code Title 18 Environmental Conservation, Chapter 50 Air Quality Control (18 AAC 50)
18 AAC 50 Article 1. Ambient Air Quality Management
18 AAC 50.005 | Purpose and Applicability of Chapter | 10/1/04 | 8/14/07, 72 FR 45378
18 AAC 50.010 | Ambient Air Quality Standards | 10/1/04; 4/1/10 | 8/14/07, 72 FR 45378; 10/22/12, 77 FR 64425 | except subsections (7) and (8).
18 AAC 50.015 | Air Quality Designations, Classifications, and Control Regions | 10/1/04 | 8/14/07, 72 FR 45378
18 AAC 50.020 | Baseline Dates and Maximum Allowable Increases | 10/1/04 | 8/14/07, 72 FR 45378
18 AAC 50.025 | Visibility and Other Special Protection Areas | 6/21/98 | 8/14/07, 72 FR 45378
18 AAC 50.035 | Documents, Procedures and Methods Adopted by Reference | 12/3/05; 4/1/10 | 8/14/07, 72 FR 45378; 10/22/12, 77 FR 64425 | except (b)(4).
18 AAC 50.040 | Federal Standards Adopted by Reference | 12/3/05; 12/9/10 | 8/14/07, 72 FR 45378; 2/9/11, 76 FR 7116; 10/22/12, 77 FR 64425 | except (a), (b), (c), (d), (e), (g), (h)(17), (h)(18), (h)(19), (i)(7), (i)(8), (i)(9), and (j).
18 AAC 50.045 | Prohibitions | 10/1/04 | 8/14/07, 72 FR 45378
18 AAC 50.050 | Incinerator Emission Standards | 5/3/02 | 8/14/07, 72 FR 45378
18 AAC 50.055 | Industrial Processes and Fuel-Burning Equipment | 10/1/04 | 8/14/07, 72 FR 45378 | except (d)(2)(B).
18 AAC 50.060 | Pulp Mills | 1/18/97 | 11/18/98, 63 FR 63983
18 AAC 50.065 | Open Burning | 1/18/97 | 11/18/98, 63 FR 63983
18 AAC 50.070 | Marine Vessel Visible Emission Standards | 6/21/98 | 8/14/07, 72 FR 45378
18 AAC 50.075 | Wood-Fired Heating Device Visible Emission Standards | 5/6/09 | 5/9/13, 78 FR 27078
18 AAC 50.080 | Ice Fog Standards | 1/18/97 | 8/14/07, 72 FR 45378
18 AAC 50.100 | Nonroad Engines | 10/1/04 | 8/14/07, 72 FR 45378
18 AAC 50.110 | Air Pollution Prohibited | 5/26/72 | 5/31/72, 37 FR 10842
18 AAC 50 Article 2. Program Administration
18 AAC 50.200 | Information Requests | 10/1/04 | 8/14/07, 72 FR 45378
18 AAC 50.201 | Ambient Air Quality Investigation | 10/1/04 | 8/14/07, 72 FR 45378
18 AAC 50.205 | Certification | 10/1/04 | 8/14/07, 72 FR 45378
18 AAC 50.215 | Ambient Air Quality Analysis Methods | 10/1/04; 4/1/10 | 8/14/07, 72 FR 45378; 10/22/12, 77 FR 64425 | except (a)(3).
18 AAC 50.220 | Enforceable Test Methods | 10/1/04 | 8/14/07, 72 FR 45378 | except (c)(2).
18 AAC 50.225 | Owner-Requested Limits | 1/29/05 | 8/14/07, 72 FR 45378
18 AAC 50.230 | Preapproved Emission Limits | 1/29/05 | 8/14/07, 72 FR 45378 | except (d).
18 AAC 50.240 | Excess Emissions | 1/18/97 | 11/18/98, 63 FR 63983
18 AAC 50.245 | Air Episodes and Advisories | 10/1/04 | 8/14/07, 72 FR 45378
18 AAC 50.250 | Procedures and Criteria for Revising Air Quality Classifications | 10/1/04 | 8/14/07, 72 FR 45378
18 AAC 50.260 | Guidelines for Best Available Retrofit Technology under the Regional Haze Rule | 12/30/07 | 2/14/13, 78 FR 10546
18 AAC 50 Article 3. Major Stationary Source Permits
18 AAC 50.301 | Permit Continuity | 10/1/04 | 8/14/07, 72 FR 45378
18 AAC 50.302 | Construction Permits | 10/1/04 | 8/14/07, 72 FR 45378
18 AAC 50.306 | Prevention of Significant Deterioration (PSD) Permits | 10/1/04 | 8/14/07, 72 FR 45378 | except (b)(2) and (b)(3).
18 AAC 50.311 | Nonattainment Area Major Stationary Source Permits | 10/1/04 | 8/14/07, 72 FR 45378
18 AAC 50.345 | Construction and Operating Permits: Standard Permit Conditions | 10/1/04 | 8/14/07, 72 FR 45378 | except (b), (c)(3), and (l).
18 AAC 50 Article 5. Minor Permits
18 AAC 50.502 | Minor Permits for Air Quality Protection | 12/3/05 | 8/14/07, 72 FR 45378 | except (g)(1) and (g)(2).
18 AAC 50.508 | Minor Permits Requested by the Owner or Operator | 10/1/04 | 8/14/07, 72 FR 45378 | except (1) and (2).
18 AAC 50.540 | Minor Permit: Application | 12/3/05 | 8/14/07, 72 FR 45378 | except (f) and (g).
18 AAC 50.542 | Minor Permit: Review and Issuance | 12/1/04 | 8/14/07, 72 FR 45378 | except (b)(2), (f)(4), (f)(5), and (g)(1) but only with respect to clean units and pollution control projects.
18 AAC 50.544 | Minor Permits: Content | 1/29/05 | 8/14/07, 72 FR 45378 | except (e).
18 AAC 50.546 | Minor Permits: Revisions | 10/1/04 | 8/14/07, 72 FR 45378 | except (b).
18 AAC 50.560 | General Minor Permits | 10/1/04 | 8/14/07, 72 FR 45378 |
18 AAC 50 Article 7. Conformity
18 AAC 50.700 | Purpose of 18 AAC 50.700-18 AAC 50.785 | 9/4/98 | 12/29/99, 64 FR 72940
18 AAC 50.705 | Coverage of 18 AAC 50.710-18 AAC 50.735: Obligations of Responsible Agency | 9/4/98 | 12/29/99, 64 FR 72940
18 AAC 50.710 | Transportation Conformity: Incorporation by Reference of Federal Regulations | 9/4/98 | 12/29/99, 64 FR 72940 | exceptions—IBR 93.102(c)&(d); 93.104(d)&(e)(2); 93.109(c)-(f); 93.118(e); 93.119(f)(3); 93.120(a)(2); 93.121(a)(1) & (b); 93.124(b).
18 AAC 50.715 | Transportation Conformity: Interagency Consultation Procedures | 9/4/98 | 12/29/99, 64 FR 72940
18 AAC 50.720 | Transportation Conformity: Public Involvement | 9/4/98 | 12/29/99, 64 FR 72940
18 AAC 50.725 | General Conformity: Incorporation by Reference of Federal Regulations | 1/4/95 | 9/27/95, 60 FR 49765
18 AAC 50.730 | General Conformity: Mitigation of Air Quality Impacts | 1/4/95 | 9/27/95, 60 FR 49765
18 AAC 50.735 | General Conformity: Frequency of Conformity Determinations | 1/4/95 | 9/27/95, 60 FR 49765
18 AAC 50 Article 9. General Provisions
18 AAC 50.900 | Small Business Assistance Program | 10/1/04 | 8/14/07, 72 FR 45378
18 AAC 50.990 | Definitions | 10/1/04; 4/1/10; 12/9/10 | 8/14/07, 72 FR 45378; 10/22/12, 77 FR 64425 | except (21) and (77).
Alaska Administrative Code Title 18 Environmental Conservation, Chapter 52 Emissions Inspection and Maintenance Requirements (18 AAC 52)
18 AAC 52 Article 1. Emissions Inspection and Maintenance Requirements
18 AAC 52.005 | Applicability and General Requirements | 5/17/08 | 3/22/10, 75 FR 13436
18 AAC 52.007 | Suspension and Reestablishment of I/M Requirements | 5/17/08 | 3/22/10, 75 FR 13436
18 AAC 52.010 | I/M Program Administration Office | 2/18/06 | 3/22/10, 75 FR 13436
18 AAC 52.015 | Motor Vehicle Maintenance Requirements | 2/18/06 | 3/22/10, 75 FR 13436
18 AAC 52.020 | Certificate of Inspection Requirements | 2/18/06 | 3/22/10, 75 FR 13436
18 AAC 52.025 | Visual Identification of Certificate of Inspection, Waivers, and Exempt Vehicles | 2/18/06 | 3/22/10, 75 FR 13436
18 AAC 52.030 | Department-Administered I/M Program | 2/1/94 | 4/5/95, 60 FR 17232
18 AAC 52.035 | I/M Program Administered by an Implementing Agency | 3/27/02 | 3/22/10, 75 FR 13436
18 AAC 52.037 | Reporting Requirements for an I/M Program Administered by an Implementing Agency | 2/18/06 | 3/22/10, 75 FR 13436
18 AAC 52.040 | Centralized Inspection Program | 2/1/94 | 4/5/95, 60 FR 17232
18 AAC 52.045 | Decentralized Inspection Program | 2/1/94 | 4/5/95, 60 FR 17232
18 AAC 52.050 | Emissions Standards | 3/27/02 | 3/22/10, 75 FR 13436
18 AAC 52.055 | Alternative Requirements, Standards and Test Procedures | 1/1/00 | 1/8/02, 67 FR 822
18 AAC 52.060 | Waivers | 5/17/08 | 3/22/10, 75 FR 13436
18 AAC 52.065 | Emissions-Related Repair Cost Minimum | 1/1/00 | 1/8/02, 67 FR 822
18 AAC 52.070 | Referee Facility | 3/27/02 | 3/22/10, 75 FR 13436
18 AAC 52.075 | Kit Cars and Custom-Manufactured Vehicles | 2/1/94 | 4/5/95, 60 FR 17232
18 AAC 52.080 | Grey Market Vehicles | 3/27/02 | 3/22/10, 75 FR 13436
18 AAC 52.085 | Vehicle Modifications | 2/18/06 | 3/22/10, 75 FR 13436
18 AAC 52.090 | Repair of Nonconforming Vehicles | 1/1/98 | 12/29/99, 64 FR 72940
18 AAC 52.095 | Minimum Certification Requirements | 1/1/98 | 12/29/99, 64 FR 72940
18 AAC 52.100 | Enforcement Procedures for Violations by Motorists | 12/14/06 | 3/22/10, 75 FR 13436
18 AAC 52.105 | Enforcement Procedures for Violations by Certified Mechanics or Stations | 1/1/00 | 1/8/02, 67 FR 822
18 AAC 52 Article 4. Certification Requirements
18 AAC 52.400 | Mechanic Certification | 1/1/98 | 12/29/99, 64 FR 72940
18 AAC 52.405 | Certified Mechanic Examinations | 3/27/02 | 3/22/10, 75 FR 13436
18 AAC 52.410 | Training Course Certification | 2/18/06 | 3/22/10, 75 FR 13436
18 AAC 52.415 | I/M Station Certification | 1/1/00 | 1/8/02, 67 FR 822
18 AAC 52.420 | Equipment Certification | 1/1/00 | 1/8/02, 67 FR 822
18 AAC 52.425 | Renewal of Certification | 1/1/98 | 12/29/99, 64 FR 72940
18 AAC 52.430 | Duty to Report Change in Status | 2/1/94 | 4/5/95, 60 FR 17232
18 AAC 52.440 | Monitoring of Certified Mechanics and Stations | 1/1/00 | 1/8/02, 67 FR 822
18 AAC 52.445 | Suspension or Revocation of Certification | 2/1/94 | 4/5/95, 60 FR 17232
18 AAC 52 Article 5. Certified Station Requirements
18 AAC 52.500 | General Operating Requirements | 1/1/00 | 1/8/02, 67 FR 822
18 AAC 52.505 | Display of Certified Station Sign | 2/1/94 | 4/5/95, 60 FR 17232
18 AAC 52.510 | Display of Certificates | 2/18/06 | 3/22/10, 75 FR 13436
18 AAC 52.515 | Inspection Charges | 2/18/06 | 3/22/10, 75 FR 13436
18 AAC 52.520 | Required Tools and Equipment | 2/18/06 | 3/22/10, 75 FR 13436
18 AAC 52.525 | Remote Station Operation | 1/1/00 | 1/8/02, 67 FR 822
18 AAC 52.527 | Prescreening Prohibited | 1/1/00 | 1/8/02, 67 FR 822
18 AAC 52.530 | Preliminary Inspection | 1/1/00 | 1/8/02, 67 FR 822
18 AAC 52.535 | Test Abort Conditions | 3/27/02 | 3/22/10, 75 FR 13436
18 AAC 52.540 | Official I/M Testing | 3/27/02 | 3/22/10, 75 FR 13436
18 AAC 52.545 | Parts on Order | 1/1/98 | 12/29/99, 64 FR 72940
18 AAC 52.546 | Unavailable Parts | 1/1/98 | 12/29/99, 64 FR 72940
18 AAC 52.550 | Recordkeeping Requirements | 2/1/94 | 4/5/95, 60 FR 17232
18 AAC 52 Article 9. General Provisions
18 AAC 52.990 | Definitions | 2/18/06 | 3/22/10, 75 FR 13436
Alaska Administrative Code Title 18 Environmental Conservation, Chapter 53 Fuel Requirements For Motor Vehicles (18 AAC 53)
18 AAC 53 Article 1. Oxygenated Gasoline Requirements
18 AAC 53.005 | Purpose and Applicability; General Requirements | 10/31/97 | 12/29/99, 64 FR 72940
18 AAC 53.007 | Dispenser Labeling | 10/31/97 | 12/29/99, 64 FR 72940
18 AAC 53.010 | Control Periods and Control Areas | 2/20/04 | 6/23/04, 69 FR 34935
18 AAC 53.020 | Required Oxygen Content | 10/31/97 | 12/29/99, 64 FR 72940
18 AAC 53.030 | Sampling, Testing and Oxygen Content Calculations | 10/31/97 | 12/29/99, 64 FR 72940
18 AAC 53.035 | Per Gallon Method of Compliance | 10/31/97 | 12/29/99, 64 FR 72940
18 AAC 53.040 | Averaging Oxygen Content Method of Compliance | 10/31/97 | 12/29/99, 64 FR 72940
18 AAC 53.045 | Oxygen Credits and Debits | 10/31/97 | 12/29/99, 64 FR 72940
18 AAC 53.060 | Oxygenated Gasoline Blending | 10/31/97 | 12/29/99, 64 FR 72940
18 AAC 53.070 | Registration and Permit | 10/31/97 | 12/29/99, 64 FR 72940
18 AAC 53.080 | Car Fees | 12/30/00 | 1/08/02, 67 FR 822
18 AAC 53.090 | Recordkeeping | 10/31/97 | 12/29/99, 64 FR 72940
18 AAC 53.100 | Reporting | 10/31/97 | 12/29/99, 64 FR 72940
18 AAC 53.105 | Product Transfer Document | 10/31/97 | 12/29/99, 64 FR 72940
18 AAC 53.120 | Inspection and Sampling | 10/31/97 | 12/29/99, 64 FR 72940
18 AAC 53.130 | Liability for Violation | 10/31/97 | 12/29/99, 64 FR 72940
18 AAC 53.140 | Defenses for Violation | 10/31/97 | 12/29/99, 64 FR 72940
18 AAC 53.150 | Temporary Variances | 10/31/97 | 12/29/99, 64 FR 72940
18 AAC 53.160 | Quality Assurance Program | 10/31/97 | 12/29/99, 64 FR 72940
18 AAC 53.170 | Attest Engagements | 10/31/97 | 12/29/99, 64 FR 72940
18 AAC 53.190 | Suspension and Reestablishment of Control Period | 2/20/04 | 6/23/04, 69 FR 34935
18 AAC 53 Article 9. General Provisions
18 AAC 53.990 | Definitions | 10/31/97 | 12/29/99, 64 FR 72940
City and County Ordinances
Anchorage Municipal Code 21.85.030 | Improvement Requirements by Improvement Area | 1/16/87 (City effective date) | 8/13/93, 58 FR 43084 | Eagle River PM Plan—Contingency Plan.
Anchorage Municipal Code 21.45.080.W.7 | Paving | 9/24/91 (City effective date) | 8/13/93, 58 FR 43084 | Section W.7. Eagle River PM Plan—Contingency Plan.
Fairbanks North Star Borough Ordinance No. 2001-17 | Mandating a Fairbanks North Star Borough Motor Vehicle Plug-in Program | 4/12/01 (City adoption date) | 2/4/02, 67 FR 5064 | Fairbanks Transportation Control Program—Carbon Monoxide.
Fairbanks North Star Borough Ordinance No. 2003-71 | An Ordinance amending the Carbon Monoxide Emergency Episode Prevention Plan including implementing a Woodstove Control Ordinance | 10/30/03 (City adoption date) | 7/27/04, 69 FR 44601 | Fairbanks Carbon Monoxide Maintenance Plan.
Ordinance of the City and Borough of Juneau, No. 91-52 | An Ordinance amending the Wood smoke control code to lower the particulate count threshold, and to prohibit the burning in woodstoves of substances other than paper, cardboard and untreated wood | 1/6/92 (City adoption date) | 3/24/94, 59 FR 13884 | Mendenhall Valley PM Plan.
Ordinance of the City and Borough of Juneau, No. 91-53 | An Ordinance amending the wood smoke control fine schedule to increase the fines for violations of the wood smoke control code | 1/6/92 (City adoption date) | 3/24/94, 59 FR 13884 | Mendenhall Valley PM Plan.
Ordinance of the City and Borough of Juneau No. 93-01 | Setting boundaries for regrading and surfacing | 2/8/93 (City adoption date) | 3/24/94, 59 FR 13884 | Mendenhall Valley PM Plan.
Ordinance of the City and Borough of Juneau, No. 93-06 | Setting boundaries for regrading and surfacing | 4/5/93 (City adoption date) | 3/24/94, 59 FR 13884 | Mendenhall Valley PM Plan.
Ordinance of the City and Borough of Juneau, No. 93-39am | An Ordinance creating Local Improvement District No. 77 of the City and Borough, setting boundaries for drainage and paving of streets in the Mendenhall Valley | 11/17/93 (City adoption date) | 3/24/94, 59 FR 13884 | Mendenhall Valley PM Plan.
Anchorage Ordinance 2006-13 | An ordinance amending the Anchorage Municipal Code, Chapters 15.80 and 15.85 to comply with State I/M regulations and to comply with DMV Electronic Procedures | 2/14/06 (City approval date) | 3/22/10, 75 FR 13436 | Anchorage Transportation Control Program—Carbon Monoxide.
Ordinance of the City and Borough of Juneau, Serial No. 2008-28 | An Ordinance Amending the Woodsmoke Control Program Regarding Solid Fuel-Fired Burning Devices | 9/8/08 (City adoption date) | 5/9/13, 78 FR 27071 | Mendenhall Valley PM Limited Maintenance Plan.
Alaska Statutes
Title 45 Trade and Commerce, Chapter 45.45. Trade Practices
Sec. 45.45.400 | Prohibited Transfer of Used Cars | 6/25/93 | 11/18/98, 63 FR 63983 | except (b).
Title 46 Water, Air, Energy, and Environmental Conservation, Chapter 46.14. Air Quality Control
Sec. 46.14.510 | Motor Vehicle Pollution | 6/25/93 | 11/18/98, 63 FR 63983 | except (a), (c), and (d).
Sec. 46.14.550 | Responsibilities of Owner and Operator | 6/25/93 | 11/18/98, 63 FR 63983
Sec. 46.14.560 | Unavoidable Malfunctions and Emergencies | 6/25/93 | 11/18/98, 63 FR 63983
Sec. 46.14.990 | Definitions | 6/25/93 | 11/18/98, 63 FR 63983 | except (4), (5), (9), (11), (12), (14), (19), (20), (21), and (23).

(d) EPA approved state source-specific requirements.

EPA-Approved Alaska Source-Specific Requirements
Name of source | Order/Permit No. | State effective date | EPA approval date | Explanation
None

(e) EPA approved nonregulatory provisions and quasi-regulatory measures.

EPA-Approved Alaska Nonregulatory Provisions and Quasi-Regulatory Measures
Name of SIP provision | Applicable geographic or nonattainment area | State submittal date | EPA approval date | Comments
State of Alaska Air Quality Control Plan: Volume II. Analysis of Problems, Control Actions
Section I Background
A. Introduction | Statewide | 1/8/97 | 12/29/99, 64 FR 72940
B. Air Quality Control Regions | Statewide | 1/8/97 | 12/29/99, 64 FR 72940
C. Attainment/nonattainment Designations | Statewide | 1/8/97 | 12/29/99, 64 FR 72940
D. Prevention of Significant Deterioration Designations | Statewide | 1/8/97 | 12/29/99, 64 FR 72940
E. New Source Review | Statewide | 1/8/97 | 12/29/99, 64 FR 72940
Section II State Air Quality Control Program
State Air Quality Control Program | Statewide | 7/9/12 | 10/22/12, 77 FR 64425
Section III Area wide Pollutant Control Program
A. Statewide Carbon Monoxide Control Program | Statewide | 6/5/08 | 3/22/10, 75 FR 13436
State Transportation Control Program | Statewide | 1/1/00 | 1/08/02, 67 FR 822
B. Anchorage Transportation Control Program | Anchorage | 1/4/02 | 9/18/02, 67 FR 58711
Anchorage Carbon Monoxide Maintenance Plan | Anchorage | 9/20/11 | 3/3/14, 79 FR 11707
Anchorage Second 10-year Carbon Monoxide Limited Maintenance Plan | Anchorage | 4/22/13 | 3/3/14, 79 FR 11707
C. Fairbanks Transportation Control Program | Fairbanks | 8/30/01 | 5/25/01, 66 FR 28836
Fairbanks Carbon Monoxide Maintenance Plan | Fairbanks | 9/29/10 | 1/10/12, 77 FR 1414
Fairbanks Second 10-year Carbon Monoxide Limited Maintenance Plan | Fairbanks | 4/22/13 | 8/9/13, 78 FR 48611
D. Particulate Matter | Statewide | 10/15/91 | 8/13/93, 58 FR 43084
Eagle River PM10 Control Plan | Eagle River | 10/15/91 | 8/13/93, 58 FR 43084
Eagle River PM10 Limited Maintenance Plan | Eagle River | 9/29/10 | 1/7/13, 78 FR 900
Mendenhall Valley PM10 Control Plan | Mendenhall Valley | 6/22/93 | 3/24/94, 59 FR 13884
Mendenhall Valley PM10 Limited Maintenance Plan | Mendenhall Valley | 5/14/09 | 5/9/13, 78 FR 27071
E. Ice Fog | Statewide | 1/18/80 | 7/5/83, 48 FR 30623
F. Open Burning | Statewide | 4/4/11 | 2/14/13, 78 FR 10546
G. Wood Smoke Pollution Control | Statewide | 11/15/83 | 4/24/84, 49 FR 17497
H. Lead Pollution Control | Statewide | 11/15/83 | 1/3/84, 49 FR 67
I. Transportation Conformity | Statewide | 12/05/94 | 9/27/95, 60 FR 49765
J. General Conformity | Statewide | 12/05/94 | 9/27/95, 60 FR 49765
K. Area Wide Pollutant Control Program for Regional Haze | Statewide | 4/4/11 | 2/14/13, 78 FR 10546
Section IV Point Source Control Program
A. Summary | Statewide | 11/15/83 | 4/24/84, 49 FR 17497
B. State Air Quality Regulations | Statewide | 11/15/83 | 4/24/84, 49 FR 17497
C. Local Programs | Statewide | 11/15/83 | 4/24/84, 49 FR 17497
D. Description of Source Categories and Pollutants | Statewide | 11/15/83 | 4/24/84, 49 FR 17497
E. Point Source Control | Statewide | 11/15/83 | 4/24/84, 49 FR 17497
F. Facility Review Procedures | Statewide | 9/12/88 | 7/31/89, 54 FR 31522
G. Application Review and Permit Development | Statewide | 11/15/83 | 4/24/84, 49 FR 17497
H. Permit Issuance Requirements | Statewide | 11/15/83 | 4/24/84, 49 FR 17497
Section V Ambient Air Monitoring
A. Purpose | Statewide | 1/18/80 | 4/15/81, 46 FR 21994
B. Completed Air Monitoring Projects | Statewide | 1/18/80 | 4/15/81, 46 FR 21994
C. Air Monitoring Network | Statewide | 1/18/80; 7/11/94 | 4/15/81, 46 FR 21994; 4/5/95, 60 FR 17237
E. Annual Review | Statewide | 1/18/80 | 4/15/81, 46 FR 21994
State of Alaska Air Quality Control Plan: Volume III. Appendices
Section II State Air Quality Control Program
A. State Air Statutes | Statewide | 12/11/06 | 3/22/10, 75 FR 13436 | except 46.03.170.
In Situ Burning Guidelines | Statewide | 4/4/11 | 2/14/13, 78 FR 10546
State Attorney General Opinions on Legal Authority | Statewide | 12/11/06 | 3/22/10, 75 FR 13436
B. Municipality of Anchorage | Anchorage | 4/22/13 | 3/3/14, 79 FR 11707
C. Fairbanks North Star Borough | Fairbanks | 12/11/06 | 3/22/10, 75 FR 13436
CAA Section 110 Infrastructure Certification Documentation and Supporting Documents | Statewide | 7/9/12 | 10/22/12, 77 FR 64425
Section III Area wide Pollutant Control Program
A. I/M Program Manual | Statewide | 6/5/08 | 3/22/10, 75 FR 13436
B. Municipality of Anchorage | Anchorage | 4/22/13 | 3/3/14, 79 FR 11707
C. Fairbanks | Fairbanks | 4/22/13 | 8/9/13, 78 FR 48611
D. Particulate Matter—PM10 Supporting Documents | Anchorage, Eagle River, Mendenhall Valley | 10/15/91; 9/29/10; 5/14/09 | 8/13/93, 58 FR 43084; 1/7/13, 78 FR 900; 5/9/13, 78 FR 27071
G. Ordinance of the City and Borough of Juneau | Juneau | 11/15/83 | 4/24/84, 49 FR 17497
H. Support Documents for Lead Plan | Statewide | 11/15/83 | 1/3/84, 49 FR 67
Section IV Point Source Control Program
1. PSD Area Classification and Reclassification | Statewide | 11/15/83 | 4/24/84, 49 FR 17497
2. Compliance Assurance | Statewide | 11/15/83 | 4/24/84, 49 FR 17497
3. Testing Procedures | Statewide | 11/15/83 | 4/24/84, 49 FR 17497
Section V Ambient Air Monitoring
ADEC Ambient Analysis Procedures | Statewide | 11/15/83 | 4/24/84, 49 FR 17497
Section VI Small Business Assistance Program
Section VI Small Business Assistance Program | Statewide | 4/18/94 | 9/5/95, 60 FR 46024
Section 128 Requirements
Public Official Financial Disclosure (2 AAC 50.010-2 AAC 50.200) | Statewide | 7/9/12 | 10/22/12, 77 FR 64425
Executive Branch Code of Ethics (9 AAC 52.010-9 AAC 52.990) | Statewide | 7/9/12 | 10/22/12, 77 FR 64425
Section 110(a)(2) Infrastructure and Interstate Transport
Interstate Transport Requirements—1997 8-Hour Ozone and PM2.5 NAAQS | Statewide | 2/7/08 | 10/15/08, 73 FR 60957 | Approves SIP for purposes of CAA section 110(a)(2)(D)(i) for the 1997 8-hour ozone and 1997 PM2.5 NAAQS.
110(a)(2) Infrastructure Requirements—1997 ozone standard | Statewide | 7/9/12 | 10/22/12, 77 FR 64425 | Approves SIP for purposes of CAA sections 110(a)(2)(A), (B), (C), (D)(ii), (E), (F), (G), (H), (J), (K), (L), and (M) for the 1997 8-hour ozone NAAQS.

§ 52.97 [Removed and Reserved]

4. Remove and reserve § 52.97.

§ 52.98 [Removed and Reserved]

5. Remove and reserve § 52.98.

[FR Doc. 2014-08048 Filed 4-9-14; 8:45 am]

BILLING CODE 6560-50-P